ENVIRONMENTAL PROTECTION AGENCY

[EPA-HQ-OAR-2010-1016; FRL-9238-7]

Agency Information Collection Activities; Proposed Collection; Comment Response; National Refrigerant Recycling and Emission Reduction Program; EPA ICR No. 1626.11, OMB Control No. 2060-0256

AGENCY: Environmental Protection Agency (EPA).

ACTION: Notice.

SUMMARY: In compliance with the Paperwork Reduction Act (44 U.S.C. 3501 et seq.), this document announces that EPA is planning to submit a request to renew an existing approved Information Collection Request (ICR) to the Office of Management and Budget (OMB). This ICR is scheduled to expire on April 30, 2011. Before submitting the ICR to OMB for review and approval, EPA is soliciting comments on specific aspects of the proposed information collection as described below.

DATES: Comments must be submitted on or before February 14, 2011.

ADDRESSES: Submit your comments, identified by Docket ID No. EPA-HQ-OAR-2010-1016.

Instructions: Direct your comments to Docket ID No. EPA-HQ-OAR-2010-1016. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Julius Banks; Stratospheric Protection Division, Office of Air and Radiation, Office of Atmospheric Programs; Mail Code 6205J; Environmental Protection Agency; 1200 Pennsylvania Ave., NW., Washington, DC 20460; telephone number: (202) 343-9870; fax number: (202) 343-2338; e-mail address: banks.julius@epa.gov.

SUPPLEMENTARY INFORMATION:

How can I access the docket and/or submit comments?

EPA has established a public docket for this ICR under Docket ID No. EPA-HQ-OAR-2010-1016, which is available for online viewing at http://www.regulations.gov, or in person viewing at the Office of Air and Radiation Docket and Information Center in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Office of Air and Radiation Docket and Information Center Docket is 202-566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are those that recover, recycle, reclaim, sell, or distribute in interstate commerce ozone-depleting refrigerants that contain chlorofluorocarbons (CFCs) or hydrochlorofluorocarbons (HCFCs); and those that service, maintain, repair, or dispose of appliances containing CFC or HCFC refrigerants. In addition, the owners or operators of appliances containing more than 50 pounds of CFC or HCFC refrigerants are regulated.

ICR numbers: EPA ICR No. 1626.11, OMB Control No. 2060-0256.

ICR status: This ICR is currently scheduled to expire on April 30, 2011. An Agency may not conduct or sponsor, and a person is not required to respond to, a collection of information, unless it displays a currently valid OMB control number. The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has developed regulations under the Clean Air Act Amendments of 1990 (the Act) establishing standards and requirements regarding the use and disposal of class I and class II ozone-depleting substances used as refrigerants during the service, maintenance, repair, or disposal of refrigeration and air-conditioning equipment. Section 608(c) of the Act states that effective July 1, 1992 it is unlawful for any person in the course of maintaining, servicing, repairing, or disposing of refrigeration or air-conditioning equipment to knowingly vent or otherwise knowingly release or dispose of any class I or class II substance used as a refrigerant in the equipment in a manner which permits the substance to enter the environment.

In 1993, EPA promulgated regulations under section 608 of the Act for the recycling of ozone-depleting refrigerants recovered during the servicing and disposal of air-conditioning and refrigeration equipment. These regulations were published on May 14, 1993 (58 FR 28660) and codified in 40 CFR subpart F (§ 82.150 et seq.).

The regulations require persons servicing refrigeration and air-conditioning equipment to observe certain service practices that reduce emissions of ozone depleting refrigerants. The regulations also establish certification programs for technicians, recycling and recovery equipment, and off-site refrigerant reclaimers. In addition, EPA requires that ozone depleting refrigerants contained “in bulk” in appliances be removed prior to disposal of the appliances and that all refrigeration and air-conditioning equipment, except for small appliances and room air conditioners, be provided with a servicing aperture that facilitates recovery of the refrigerant. Moreover, the Agency requires that substantial refrigerant leaks in equipment be repaired when they are discovered. These regulations significantly reduce emissions of ozone depleting refrigerants, and therefore aid U.S. and global efforts to minimize damage to the ozone layer and the environment as a whole.

To facilitate compliance with and enforcement of section 608 requirements, EPA requires reporting and recordkeeping requirements of technicians; technician certification programs; equipment testing organizations; refrigerant wholesalers and purchasers; refrigerant reclaimers; refrigeration and air-conditioning equipment owners; and other establishments that perform refrigerant removal, service, or disposal. The recordkeeping requirements and periodic submission of reports, to EPA's Office of Air and Radiation, Office of Atmospheric Programs, occur on an annual, biannual, one time, or occasional basis depending on the nature of the reporting entity and the length of time that the entity has been in service. Specific reporting and recordkeeping requirements were published in 58 FR 28660 and codified under 40 CFR part 82, subpart F (i.e., § 82.166). These reporting and recordkeeping requirements also allow EPA to evaluate the effectiveness of the refrigerant regulations, and help the Agency determine if we are meeting the obligations of the Unites States, under the 1987 Montreal Protocol, to reduce use and emissions of ozone-depleting substances to the lowest achievable level.

Burden Statement: The annual public reporting and recordkeeping burden for this collection of information is estimated to average 4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The annual public reporting and recordkeeping burden for this collection of information is estimated to average: 8 hours for the 2 EPA-approved refrigerant recovery/recycling equipment testing organizations; 2,250 hours for an estimated 2,250 owners of refrigerant recovery/recycling equipment (including air-conditioning and refrigeration service establishments) that will change ownership or enter the market; 375 hours for an estimated 375 appliance disposal establishments that change ownership or enter the market; 97,500 hours for the maintenance of copies of signed statements by an estimated 7,500 disposal establishments; 20 hours for certification of an estimated 4 refrigerant reclaimers that change ownership or enter the market; 245 hours for refrigerant reclaimer annual reporting from an estimated 49 respondents; 306 hours for refrigerant reclaimer transactional recordkeeping from an estimated 49 respondents; 2,250,000 hours for an estimated 10,000 refrigerant wholesalers to maintain records of refrigerant sales transactions; 25 hours for an estimated 5 technician certification programs applying for first-time approval; 455 hours for an estimated 91 technician certification programs to maintain records; 182 hours for an estimated 91 technician certification programs to submit biannual reports on their pass/fail rates and the next year's testing schedule; 5,010 hours for an estimated 30,000 technicians acquiring certification for the first time; 5,010 hours for an estimated 300,000 previously certified technicians to maintain their certification cards; 512 hours for an estimated 20,500 technicians servicing appliances with charge sizes greater than 50 pounds of refrigerant to provide service invoices to their customers; 512 hours for an estimated 20,500 owners/operators of appliances with charge sizes greater than 50 pounds of refrigerant to maintain service invoices; 10 hours for an estimated 20 owners of industrial process refrigeration equipment (appliances) who request a 30-day extension to the 30-day leak repair requirement or the retrofit requirement; 0.5 hours (30 minutes) for an estimated 1 owner of industrial process refrigeration equipment (appliances) who requests an extension to the 1-year timeframe to implement retrofit/retirement plans; 0.05 hours (3 minutes) for an estimated 2 owners of industrial process refrigeration appliances who maintain information on purged/destroyed refrigerant that they wish to exclude from their leak rate calculations; 40,000 hours for an estimated 5,000 owners/operators of appliances with refrigerant charges greater than 50 pounds to create and maintain a plan to retire/replace or retrofit comfort cooling, commercial refrigeration, and industrial process refrigeration appliances; 2,501 hours for an estimated 100,025 owners/operators of industrial process refrigeration appliances with refrigerant charge sizes greater than 50 pounds to maintain records on the results of initial and follow-up verification tests and 5,000 hours for an estimated 200,000 appliance owners/operators who choose to determine the appliance's full charge using a range of possible values.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR provides a detailed explanation of the Agency's estimate, which is only briefly summarized here:

Estimated total number of potential respondents: 663,669.

Frequency of response: Reporting requirements under this rulemaking are primarily required on an annual basis, with the exception of technician testing organizations that are required to rep ort biannually. The frequency of recordkeeping requirements under this rulemaking vary depending upon the actions of the respondent but are generally required on a transactional basis.

Estimated total average number of responses for each respondent: 1.

Estimated total annual burden hours: 2,404,913 hours.

Estimated total annual costs: $96,364,851. This includes an estimated burden cost of $96,364,851 and an estimated cost of $0 for capital investment costs.

Are there changes in the estimates from the last approval?

There is no increase of hours in the total estimated respondent burden compared with that identified in the ICR currently approved by OMB. This is due to the fact that there have been no changes in any program requirement, no changes in EPA's estimates of the time required to submit reports and maintain records, and no changes in EPA's estimates of the overall number of respondents. However, due to a correction of miscalculated estimates in the ICR currently approved by OMB, there is a change in the estimated total number of potential respondents from that identified in the ICR currently approved by OMB. There is also an increase of $8,345,044 in the estimated total annual cost as a result of changes in EPA's estimates of labor rates.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: December 8, 2010.
Brian J. McLean,
Office of Atmospheric Program, Office of Air and Radiation.

[FR Doc. 2010-31334 Filed 12-13-10; 8:45 am]

BILLING CODE 6560-50-P